DEPARTMENT OF TRANSPORTATION

Federal Aviation Administration

14 CFR Part 460

Regulatory Approach for Commercial Orbital Human Spaceflight

AGENCY: Federal Aviation Administration (FAA), DOT.

ACTION: Notice of public meeting.

SUMMARY: This notice announces a public meeting to solicit comments and information from the public on the regulatory approach to commercial orbital human spaceflight by the FAA. This public meeting is intended to aid the FAA in its regulatory effort by receiving early input from the affected community.

DATES: The meeting is scheduled for Thursday, May 26, 2011, starting at 8:30 a.m. Eastern Daylight Time. Written comments submitted to the docket must be received no later than June 9, 2011.

ADDRESSES: DoubleTree by Hilton Hotel Cocoa Beach Oceanfront, 2080 North Atlantic Avenue, Cocoa Beach, FL 32931.

Persons who are unable to attend the meeting, or who otherwise wish to submit written comments, may send comments identified by Docket Number FAA-2011-0446 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

FOR FURTHER INFORMATION CONTACT: Randy Repcheck, Deputy Division Manager, Regulations and Analysis Division, AST-300, Office of Commercial Space Transportation, Federal Aviation Administration, 800 Independence Avenue, SW., Washington, DC 20591, Telephone (202) 267-8760, or e-mail at randy.repcheck@faa.gov; or Laura Montgomery, Senior Attorney for Commercial Space Transportation, Regulations Division, AGC-200, Office of the Chief Counsel, Federal Aviation Administration, 800 Independence Avenue, SW., Washington, DC 20591, Telephone (202) 267-3150, or e-mail at laura.montgomery@faa.gov.

SUPPLEMENTARY INFORMATION: 51 U.S.C. Subtitle V, chapter 509 (Chapter 509) authorizes the Secretary of Transportation and, through delegations, the FAA's Associate Administrator for Commercial Space Transportation, to oversee, license, and regulate both launches and reentries, and the operation of launch and reentry sites when carried out by U.S. citizens or within the United States. 51 U.S.C. 50904, 50905. Chapter 509 directs the FAA to exercise this responsibility consistent with public health and safety, safety of property, and the national security and foreign policy interests of the United States, and to encourage, facilitate, and promote commercial space launch and reentry by the private sector. 51 U.S.C. 50905, 50903.

The Commercial Space Launch Amendments Act of 2004 (CSLAA) assigned the FAA responsibility for regulating commercial human space flight. In December 2006, the FAA issued human space flight regulations in accordance with its authority to protect public health and safety. The CSLAA prohibits the FAA from proposing regulations governing the design or operation of a launch vehicle to protect the health and safety of crew and space flight participants until December 23, 2012, or until a design feature or operating practice has resulted in a serious or fatal injury, or contributed to an event that posed a high risk of causing a death or serious injury, to crew or space flight participants during a licensed or permitted commercial human space flight. 51 U.S.C. 50905(c)(2) and (3). Until such time, the CSLAA only requires that a space flight participant be informed of the risks of taking a ride on a rocket. 51 U.S.C. 50905(b)(5). The FAA may also issue regulations setting reasonable requirements for space flight participants, including medical and training requirements. 51 U.S.C. 50905(b)(6).

Because of recent changes in U.S. policy and the effect they have had on the commercial space transportation industry, the FAA is planning to propose regulations to protect the health and safety of crew and space flight participants for orbital human spaceflight as soon as circumstances require after December 23, 2012. This initiative is driven by the fact that the National Aeronautics and Space Administration (NASA) is planning to contract with the private sector to transport NASA astronauts to the International Space Station within a few years, and is in the process of developing requirements for its procurement of such services. The FAA's role in these flights is still in work, but the transport of private individuals to Earth orbit, which would require an FAA license, is expected to use the same space transportation systems.

The FAA believes it is important to establish a regulatory foundation as early as possible to provide industry assurance that systems built to support NASA's missions will be compatible with future FAA regulations. The CSLAA mandates that any regulations governing the design or operation of a launch vehicle to protect the health and safety of crew and space flight participants must take into consideration the evolving standards of safety in the commercial space flight industry. 51 U.S.C. 50905(c)(3). We fully concur. When developed, the proposed regulations are planned to be a starting point for a regulatory regime that will evolve over time as the industry matures. Moreover, in order to facilitate the development of a successful commercial human space transportation industry, the FAA and NASA must develop complementary safety regimes for orbital human space flight. As noted above, NASA has already begun to develop requirements for its procurement of orbital transport services.

The public meeting will allow a large cross-section of the interested public to share views with each other and the FAA, and assist the FAA in redefining the regulatory framework for orbital human spaceflight. The FAA will share its current philosophy, but is most interested in the public's view on a number of regulatory issues such as—

• What the appropriate regulatory scope and breadth should be,

• What the appropriate mix of performance-based, process-based, and prescriptive requirements should be,

• What the appropriate level of safety the FAA should target with its regulations,

• What, if any, should be the medical requirements for space flight participants,

• How best to incorporate government and industry standards into the licensing process,

• How much flight testing should be required, and

• How much control over a spacecraft ground personnel and flight crew should have.

Any member of the public may present oral statements at the meeting. For planning purposes please inform a person listed in the FOR FURTHER INFORMATION CONTACT section by May 20, 2011, although we will accommodate uncoordinated statements.

Written comments are also welcome during or after the meeting, but must be submitted to the docket by June 9, 2011.

Privacy: We will post all comments we receive, without change, to http://www.regulations.gov, including any personal information you provide. Using the search function of the docket web site, anyone can find and read the electronic form of all comments received into any of our dockets, including the name of the individual sending the comment (or signing the comment for an association, business, labor union, etc.). You may review the Department of Transportation's complete Privacy Act Statement in the Federal Register published on April 11, 2000, (65 FR 19477-78), or you may visit http://DocketsInfo.dot.gov.

Docket: To read background documents or comments received, go to http://www.regulations.gov at any time and follow the online instructions for accessing the docket or Docket Operations in Room W12-140 of the West Building Ground Floor at 1200 New Jersey Avenue, SE., Washington, DC, between 9 a.m. and 5 p.m., Monday through Friday, except Federal holidays.

Issued in Washington, DC on April 26, 2011.
George C. Nield,
Associate Administrator for Commercial Space Transportation.

[FR Doc. 2011-10638 Filed 5-2-11; 8:45 am]

BILLING CODE 4910-13-P